Title 3—

The President

Proclamation 8192 of October 19, 2007

National Character Counts Week, 2007

By the President of the United States of America

A Proclamation

The greatness of a nation is measured not by power or wealth but by the character of its people. During National Character Counts Week, we underscore our dedication to promoting values for our young people and encourage all Americans to demonstrate good character.

As America's youth strive to become responsible adults, they carry with them the values and traditions they were taught as children. At home, parents and families can teach universal values such as respect, tolerance, self-restraint, fairness, and compassion. In the community, we all can set good examples and demonstrate the virtues of leadership, patriotism, and responsible citizenship. The members of our Armed Forces demonstrate the strength of America's character by answering the call of service to our Nation.

Through the Helping America's Youth initiative, caring adults are connected with at-risk youth so that they have a mentor and an example as they navigate the challenges young people face. By working together, we can give children the skill and habits they need to reach their full potential.

During National Character Counts Week and throughout the year, I urge all citizens to support the character development of our youth and make a difference in the lives of others. One way for all Americans to add to the character of our country is to volunteer to help a neighbor in need, and more information can be found at volunteer.gov. I encourage every American to serve a cause greater than themselves and set a positive example in their community.

NOW, THEREFORE, I, GEORGE W. BUSH, President of the United States of America, by virtue of the authority vested in me by the Constitution and laws of the United States, do hereby proclaim October 21 through October 27, 2007, as National Character Counts Week. I call upon public officials, educators, librarians, parents, students, and all Americans to observe this week with appropriate ceremonies, activities, and programs.

IN WITNESS WHEREOF, I have hereunto set my hand this nineteenth day of October, in the year of our Lord two thousand seven, and of the Independence of the United States of America the two hundred and thirty-second.

[FR Doc. 07-5297

Filed 10-23-07; 8:50 am]

Billing code 3195-01-P